DEPARTMENT OF TRANSPORTATION

Office of the Secretary

Aviation Proceedings, Agreements Filed the Week Ending March 16, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-27612.

Date Filed: March 13, 2007.

Parties: Members of the International Air Transport Association.

Subject: Mail Vote 530—Resolution 010L; TC3 Special Passenger Amending Resolution Between Japan and South Asian Subcontinent, South East Asia (Memo 1065). Intended effective date: 1 April 2007.

Docket Number: OST-2007-27613.

Date Filed: March 13, 2007.

Parties: Members of the International Air Transport Association.

Subject: TC12 North Atlantic-Middle East Except between USA and Jordan; Resolutions and Specified Fares Tables (Memo 0261). Intended effective date: 1 April 2007.

Docket Number: OST-2007-27614.

Date Filed: March 13, 2007.

Parties: Members of the International Air Transport Association.

Subject: TC12 Mid Atlantic-Middle East Resolutions and Specified Fares Tables (Memo 0262). Intended effective date: 1 April 2007.

Docket Number: OST-2007-27615.

Date Filed: March 13, 2007.

Parties: Members of the International Air Transport Association.

Subject: TC12 South Atlantic-Middle East Resolutions and Specified Fares Tables (Memo 0263). Intended effective date: 1 April 2007.

Docket Number: OST-2007-27624.

Date Filed: March 15, 2007.

Parties: Members of the International Air Transport Association.

Subject: Mail Vote 531—Resolution 010m; TC3 Special Passenger Amending Resolution Between China (excluding Hong SAR and Macao SAR) and Japan, Northern Mariana Islands (Memo 1067). Intended effective date: 15 April 2007.

Renee V. Wright,
Program Manager, Docket Operations, Federal Register Liaison.

[FR Doc. E7-5593 Filed 3-27-07; 8:45 am]

BILLING CODE 4910-9X-P